NATIONAL ARCHIVES AND RECORDS ADMINISTRATION

36 CFR Part 1206

RIN 3095-AA93

National Historical Publications and Records Commission Grant Regulations

AGENCY: National Archives and Records Administration (NARA).

ACTION: Proposed rule.

SUMMARY: The proposed rule updates and clarifies the National Historical Publications and Records Commission (NHPRC or “the Commission”) regulations using plain language. We are removing outdated information, and expanding sections for greater clarity and conformity with our current guidelines. This revised regulation applies to all NHPRC applicants and grantees.

DATES: Comments are due by April 8, 2002.

ADDRESSES: Comments must be sent to Regulation Comments Desk (NPOL). Our postal address is Room 4100, Policy and Communications Staff, National Archives and Records Administration, 8601 Adelphi Road, College Park, MD 20740-6001, and our fax number is 301-713-7270.You may also submit comments via email to comments@nara.gov. If you send an email, see Supplementary Information for detailed instructions.

FOR FURTHER INFORMATION CONTACT: Nancy Allard at telephone number 301-713-7360, ext. 226, or fax number 301-713-7270.

SUPPLEMENTARY INFORMATION: If you send comments via email, please submit comments in the body of your message or as an ASCII file avoiding the use of special characters and any form of encryption. Please also include “Attn: RIN 3095-AA93” in the subject line of the email and your name and return address in your email message. If you do not receive a message confirming that we have received your email, contact the Regulation Comment desk at 301-713-7360, ext. 226.

The terms “we”, “I”, and “our” as used in this preamble refer to NHPRC and “you” and “your” refer to the reader.

The NHPRC makes grants to State and local government archives, colleges and universities, libraries, historical societies, nonprofit organizations, and individuals in the United States to help identify, preserve, publish, and provide public access to records, photographs, and other materials that document United States history.

We are proposing the following substantive changes. Delete outdated or unnecessary information. Remove the definitions for “regional” and “national” projects in § 1206.2 because we no longer use them. Update the requirements for subvention grants (proposed § 1206.18) to conform to our guidelines, adding the requirement that the grantee send ten complimentary copies of the volume to the project director or editor in addition to the five copies sent to the NHPRC.

Remove § 1206.20, Microform publication standards because we no longer have our own specifications. We now refer applicants and grantees to accepted industry standards. Reduce the number of copies of the guides required for microform projects, from five copies to three.

Add additional information on our relationship with the State historical records advisory boards, including a statement that recognizes planning as a function of all State boards. Also, in the case where there is no active State board in a State, we provide that applicants, other than State government agencies, may apply directly to the NHPRC. We cite “The Manual of Suggested Practices for State Historical Records Coordinators and State Historical Records Advisory Boards” for additional guidance, replacing “Guidelines for State Historical Records Coordinators and State Historical Records Advisory Boards.” In addition, we specify that either the governor or the State coordinator may designate a deputy State historical records coordinator.

Remove the definition for “combined grants” because it was confusing and redundant. Clarify cost sharing arrangements and policies. Expand our explanation of the review and evaluation process.

This proposed rule is a significant regulatory action for the purposes of Executive Order 12866 and has been reviewed by the Office of Management and Budget. As required by the Regulatory Flexibility Act, I certify that this rule will not have a significant impact on a substantial number of small entities. In fiscal year 2000 the NHPRC made grants to only 72 organizations and entities as defined in the Act, from the 84 applications submitted.

List of Subjects in 36 CFR Part 1206

Archives and records, Grant programs-education, Reporting and recordkeeping requirements.

For the reasons set forth in the preamble, NARA proposes to revise part 1206 of title 36, Code of Federal Regulations to read as follows:

PART 1206—NATIONAL HISTORICAL PUBLICATIONS AND RECORDS COMMISSION

Subpart A—General
Sec.
1206.1 How do you use pronouns in this part?
1206.2 What does this part cover?
1206.3 What terms have you defined?
1206.4 What is the purpose of the Commission?
1206.5 Who is on the Commission?
1206.6 How do you organize the grant program?
1206.8 How do you operate the grant program?
Subpart B—Publications Grants
1206.10 What are the scope and purpose of publications grants?
1206.12 What type of proposal is eligible for a publications grant?
1206.14 What type of proposal is ineligible for a publications grant?
1206.16 What are my responsibilities once I have received a publications grant?
1206.18 What is a subvention grant, and am I eligible for one?
Subpart C—Records Grants
1206.20 What are the scope and purpose of records grants?
1206.22 What type of proposal is eligible for a records grant?
1206.24 What type of proposal is ineligible for a records grant?
Subpart D—State Historical Records Advisory Boards
1206.30 What is a State historical records advisory board?
1206.32 What is a State historical records coordinator?
1206.34 What are the duties of the deputy State historical records coordinator?
Subpart E—Applying for NHPRC Grants
1206.40 What types of funding and cost sharing arrangements does the Commission make?
1206.42 Does the Commission ever place conditions on its grants?
1206.44 Who may apply for NHPRC grants?
1206.46 When are applications due?
1206.48 How do I apply for a grant?
1206.50 What must I provide as a formal grant application?
1206.52 Who reviews and evaluates grant proposals?
1206.54 What formal notification will I receive and will it contain other information?
Subpart F—Grant Administration
1206.60 Who is responsible for administration of NHPRC grants?
1206.62 Where can I find the regulatory requirements that apply to NHPRC grants?
1206.64 When do I need prior written approval for changes in the grant project?
1206.66 How do I obtain written approval for changes in my grant project?
1206.68 Are there any changes for which I do not need approval?
1206.70 What reports am I required to make?
1206.72 What is the format and content of the financial report?
1206.74 What is the format and content of the narrative report?
1206.76 What additional materials must I submit with the final narrative report?
1206.78 Does the NHPRC have any liability under a grant?
1206.80 Must I acknowledge NHPRC grant support?

Authority: 44 U.S.C. 2104(a); 44 U.S.C. 2501-2506.

Subpart A—General

§ 1206.1 How do you use pronouns in this part?

In the section heading questions we use the pronouns “I” and “my” to refer to the reader, and “you” to refer to the National Historical Publications and Records Commission (“NHPRC” or “the Commission”) as if you, the reader, were asking us, the Commission, these questions. In the section body, we use the pronouns “you” and “yours” to refer to the reader and “we” and “our” to refer to the Commission as we answer the questions posed.

§ 1206.2 What does this part cover?

This part prescribes the procedures and rules governing the operation of the grant program of the National Historical Publications and Records Commission.

§ 1206.3 What terms have you defined?

(a) The term Commission means the National Historical Publications and Records Commission or the Chairman of the Commission or the Executive Director of the Commission, acting on the Commission's behalf.

(b) The term historical records means record material having permanent or enduring value regardless of physical form or characteristics, including, but not limited to, manuscripts, archives, personal papers, official records, maps, audiovisual materials, and electronic files.

(c) In §§ 1206.30 and 1206.32, the term State means all 50 States of the Union, plus the District of Columbia, Puerto Rico, the U.S. Virgin Islands, Guam, American Samoa, Northern Mariana Islands, and the Trust Territories of the Pacific.

(d) The term State projects means records projects involving records or activities directed by organizations operating within one State. Records or activities of such projects will typically be under the administrative control of the organization applying for the grant. The records or activities need not relate to the history of the State.

(e) The term cost sharing means the financial contribution the applicant pledges to the cost of a project. Cost sharing can include both direct and indirect expenses, in-kind contributions, third-party contributions, and any income earned directly by the project (e.g., registration fees).

(f) The term direct costs means expenses that are attributable directly to the cost of a project, such as salaries, project supplies, travel expenses, and equipment rented or purchased for the project.

(g) The term indirect costs means costs incurred for common or joint objectives and therefore not attributable to a specific project or activity. Typically, indirect costs include items such as overhead for facilities maintenance and accounting services.

(h) The term board refers to a State historical records advisory board.

(i) The term coordinator means the coordinator of a State historical records advisory board.

§ 1206.4 What is the purpose of the Commission?

The National Historical Publications and Records Commission, a statutory body affiliated with the National Archives and Records Administration, supports a wide range of activities to preserve, publish, and encourage the use of primary documentary sources. These sources can be in every medium, created with tools ranging from quill pen to computer, relating to the history of the United States. Through our grant programs, training programs, and special projects, we offer advice and assistance to non-Federal, non-profit organizations, agencies, and institutions, including Federally-acknowledged or State-recognized Native American tribes or groups, and to individuals committed to the preservation, publication, and use of United States documentary resources.

§ 1206.5 Who is on the Commission?

Established by Congress in 1934, the Commission is a 15-member body, chaired by the Archivist of the United States and comprised of representatives of the three branches of the Federal Government and of professional associations of archivists, historians, documentary editors, and records administrators.

§ 1206.6 How do you organize the grant program?

We primarily offer grants through a program supporting publications projects (Subpart B) and records projects (Subpart C). We also offer fellowships for individuals in archival administration and documentary editing, as well as an annual institute for the editing of historical documents.

§ 1206.8 How do you operate the grant program?

(a) The Executive Director and staff manage the program under guidance from the Commission and the immediate administrative direction of its chairman, the Archivist of the United States.

(b) To assure fair treatment of every application, all members of the Commission and its staff follow conflict-of-interest rules.

(c) The purpose and work plan of all NHPRC funded grant projects must be in accord with current NHPRC guidelines and funding can be released only upon the recommendation of the Commission to the Archivist.

Subpart B—Publications Grants

§ 1206.10 What are the scope and purpose of publications grants?

Publications projects are intended to make documentary source material that is important to the study and understanding of United States history widely available. Historical records must have national value and interest.

§ 1206.12 What type of proposal is eligible for a publications grant?

We provide support for:

(a) Documentary editing projects consisting of either the papers of a United States leader in a significant phase of life in the United States or historical records relating to outstanding events or topics or themes of national significance in United States history. These projects involve collecting, compiling, transcribing, editing, annotating, and publishing, either selectively or comprehensively, the papers or historical records.

(b) Fellowships in historical documentary editing at editorial projects supported by the NHPRC.

(c) Subvention grants to nonprofit presses to help defray publication costs of NHPRC-supported or endorsed editions.

§ 1206.14 What type of proposal is ineligible for a publications grant?

We do not support:

(a) Historical research apart from the editing of documentary publications; or

(b) Documentary editing projects to publish the papers of someone who has been deceased for fewer than ten years.

§ 1206.16 What are my responsibilities once I have received a publications grant?

(a) Printed publications.

(1) With no subvention grant. You, the project director, must send three copies of each book publication to: National Historical Publications and Records Commission (NHPRC), National Archives and Records Administration, 700 Pennsylvania Avenue, NW., Washington, DC 20408-0001.

(2) With subvention grant. You, the publisher, must submit five copies of each book publication to the NHPRC at the address in paragraph (a)(1) of this section and ten copies to the project director or editor. The project director need not provide any copies to the NHPRC. (See § 1206.18.)

(b) Microform publications. For microform projects, you, the grantee, must make positive micrographics and all finding aids available to institutions, scholars, or students through interlibrary loan and for purchase. You must also send three complimentary copies of the microform guides and indexes to the NHPRC at the address in paragraph (a)(1) of this section.

(c) Electronic documentary publications. If you publish a documentary edition in electronic form, you must produce a copy of the edition in an archivally-recognized format for long-term preservation.

§ 1206.18 What is a subvention grant, and am I eligible for one?

(a) A subvention grant is a subsidy of printing costs.

(b) We use subvention grants to encourage the widest possible distribution of NHPRC-supported and endorsed documentary editions and the highest archival permanence standards of paper, printing, and binding.

(c) The Commission considers grant applications from nonprofit presses for the subvention of part of the costs of manufacturing and distributing volumes that we have funded or formally endorsed.

(d) You, the publisher, must send five complimentary copies to NHPRC, and ten complimentary copies to the project director or editor for each published volume for which we gave you a subvention grant.

Subpart C—Records Grants

§ 1206.20 What are the scope and purpose of records grants?

Records projects are supported by the National Historical Publications and Records Commission to preserve and make available State government, local government, and non-government historical records of national and State significance for the purpose of furthering an understanding and appreciation of United States history.

§ 1206.22 What type of proposal is eligible for a records grant?

We provide support for:

(a) Locating, preserving and making available records of State, local, and other governmental units; and other private collections maintained in non-Federal, non-profit repositories and special collections relating to particular fields of study, including the arts, business, education, ethnic and minority groups, immigration, labor, politics, professional services, religion, science, urban affairs, and women;

(b) Advancing the state of the art in archival and records management; and in the long-term maintenance and easy access of authentic electronic records;

(c) Promoting cooperative efforts among institutions and organizations in archival and records management;

(d) Improving the knowledge, performance, and professional skills of those who work with historical records; and

(e) Fellowships in archival administration, a training program in various aspects of archival management held at host institutions.

§ 1206.24 What type of proposal is ineligible for a records grant?

We do not support proposals:

(a) To construct, renovate, furnish, or purchase a building or land;

(b) To purchase manuscripts or other historical records;

(c) To conserve archaeological artifacts, museum objects, or works of art;

(d) To exhibit archaeological artifacts, museum objects, works of art, and documents;

(e) To acquire, preserve, or describe books, periodicals, or other library materials;

(f) To acquire, preserve, or describe art objects, sheet music, or other works primarily of value as works of art or entertainment;

(g) To support celebrations, reenactments, and other observations of historical events.

(h) To conduct a records project centered on the papers of an appointed or elected public official who remains in major office, or is politically active, or the majority of whose papers have not yet been accessioned into a repository;

(i) To process historical records, most of which will be closed to researchers for more than five years, or not be accessible to all users on equal terms, or will be in a repository that denies public access;

(j) To conduct an arrangement, description, or preservation project in which the pertinent historical records are privately owned or deposited in an institution subject to withdrawal upon demand for reasons other than requirements of law; and

(k) To conduct an arrangement, description, or preservation project involving Federal government records that are:

(1) In the custody of the National Archives and Records Administration (NARA) or an archives officially affiliated with NARA;

(2) In the custody of another Federal agency; or

(3) Deposited in a non-Federal institution without an agreement authorized by NARA.

Subpart D—State Historical Records Advisory Boards

§ 1206.30 What is a State historical records advisory board?

(a) Each State actively participating in the NHPRC records program must adopt an appointment process and appoint a State historical records advisory board (the board) consisting of at least seven members, including the State historical records coordinator (see § 1206.32), who chairs the board, unless otherwise specified in State statute or regulation. The board coordinator must provide the Commission with a description of the appointment process. A majority of the members should have recognizable experience in the administration of government records, manuscripts, or archives. The board should be as broadly representative as possible of the public and private archives, records offices, and research institutions and organizations in the State. Board members will not be deemed to be officials or employees of the Federal Government and will receive no Federal compensation for their service on the board. They are appointed for three years. They may be re-appointed to serve additional terms. Preferably their terms should be staggered so that one-third of the board is newly appointed or re-appointed each year. If the board is not established in State law, members may continue to serve until replacements are appointed. The board may adopt standards for attendance and may declare membership positions open if those standards are not met. The Board should adopt a conflict-of-interest policy, unless otherwise provided for in State statute or regulation.

(b) The board is the central advisory body for historical records planning and for Commission-funded records projects carried out within the State. The board helps historical records repositories and other information agencies coordinate activities within the State. The board reviews State records grant proposals for State projects as defined in the NHPRC guidelines and makes recommendations to the Commission. The board also engages in planning activities by developing, revising, and submitting to the Commission priorities for State historical records projects following the NHPRC guidelines. The board may also provide various other services. For example, it may sponsor and publish surveys of the conditions and needs of historical records in the State; solicit or develop proposals for projects to be carried out in the State with NHPRC grants or regrants; promote an understanding of the role and value of historical records; and review the operation and progress of projects in the State financed by NHPRC grants.

(c) The NHPRC will not consider a grant proposal from a State government agency until a board is appointed and all appointments are current. If an active board is not in place within a State, local governments, nonprofit organizations or institutions, and individuals within that state may apply directly to the Commission for support.

§ 1206.32 What is a State historical records coordinator?

(a) Appointment. In order to actively participate in the NHPRC records program, your governor must appoint a State historical records coordinator (coordinator), the full-time professional official in charge of the State archival program or agency, unless otherwise specified in state statute or regulation. If your State has another State government historical agency or agencies with archival and/or records responsibilities, the official(s) in charge of at least one of these must be a member of the State historical records advisory board (board).

(b) Duties. The coordinator is appointed to a minimum four-year term, but may continue to serve until replaced by the governor or until resignation. The coordinator will be the central coordinating officer for the historical records grant program in the State and should serve as chair of the board unless otherwise specified in the State statute or regulation. The coordinator is not deemed to be an official or employee of the Federal Government and will receive no Federal compensation for such service. The “Manual of Suggested Practices for State Historical Records Coordinators and State Historical Records Advisory Boards” which is available from the Commission and from State historical records coordinators, provides further information on the role of the coordinator. For a copy, write to NHPRC, National Archives and Records Administration, 700 Pennsylvania Avenue NW., Washington, DC 20408-0001, or contact us by email at nhprc@nara.gov.

(c) Replacement. In the event of the resignation of the coordinator or other inability to serve, a deputy coordinator, if one has been designated, will serve as acting coordinator until the governor makes an appointment. In the absence of a deputy coordinator, the NHPRC will recognize an acting coordinator, selected by the State board, who will serve until the governor appoints a coordinator in order to conduct the necessary business of the board.

§ 1206.34 What are the duties of the deputy State historical records coordinator?

The governor or coordinator may designate a deputy State historical records coordinator to assist in carrying out the duties and responsibilities of the coordinator and to serve as an acting coordinator at the coordinator's direction or upon the coordinator's resignation or other inability to serve.

Subpart E—Applying for NHPRC Grants

§ 1206.40 What types of funding and cost sharing arrangements does the Commission make?

(a) Types of grants.

(1) Matching grant. A matching grant is a way to demonstrate shared Federal/non-Federal support for projects. We will only match funds raised from non-Federal sources, either monies provided by the applicant's own institution specifically for the project or from a non-Federal third-party source.

(2) Outright grant. Outright grants are those awards we make without any matching component.

(b) Cost sharing arrangements.

(1) For publications projects that first received NHPRC funding prior to 1992, the Commission will supply as much as 75 percent of the direct costs.

(2) For publications projects funded after 1992, the Commission will provide no more than 50 percent of direct costs. We will give preference to projects for which the sponsoring institution bears at least 25 percent of the direct costs. For short-term (i.e., 3 years or less) publications projects, we will give preference to applicants that provide at least 50 percent of the project's total direct and indirect costs.

(3) For records projects, the Commission will give preference to projects in which the applicants provide at least 50 percent of the project's total direct and indirect costs.

(4) We prefer the applicant cover indirect costs through cost sharing.

§ 1206.42 Does the Commission ever place conditions on its grants?

In making its decisions on grants, the Commission may place certain conditions on its grants. We describe those possible conditions in the booklet Grant Guidelines: How to Apply for NHPRC Grants, How to Administer NHPRC Grants. For a copy, write to NHPRC, National Archives and Records Administration, 700 Pennsylvania Avenue NW., Washington, DC 20408-0001, or contact us by email at nhprc@nara.gov.

§ 1206.44 Who may apply for NHPRC grants?

The Commission will consider applications from State and local government agencies (Federal agencies are not eligible to apply), U.S. non-profit organizations and institutions, including institutions of higher education, Federally acknowledged or state-recognized Native American tribes or groups, United States citizens applying as individuals rather than for an organization, and State historical records advisory boards. Most NHPRC grants to individuals are awarded under its fellowship programs. In general, we prefer projects operating within a host institution.

§ 1206.46 When are applications due?

The Commission generally meets twice a year, and we consider grant proposals during our meetings. For current application deadlines contact the NHPRC staff or your State historical records coordinators (for records grant proposals). Some State boards have established pre-submission review deadlines for records proposals; further information is available from your State coordinator(s). We will publish deadlines once a year in the Federal Register. All proposals must be postmarked by those deadlines.

§ 1206.48 How do I apply for a grant?

(a) Contact the NHPRC staff. We encourage you to discuss your proposal through correspondence, by phone, or in person with Commission staff and/or, in the case of records proposals, with the appropriate State historical records coordinator before you submit the proposal and at all stages of your proposal's development.

(b) Contact your State Historical Records Advisory Board.

(1) Contact is not necessary if:

(i) Your proposal is for documentary editing and publication subvention projects;

(ii) You are a Native American applicant; or

(iii) Your project will largely take place in more than one state.

(2) Staff contacts and a list of State historical records coordinators may be found on our Web site at http://www.nara.gov/nhprc.

§ 1206.50 What must I provide as a formal grant application?

You must submit the following materials as part of your grant application:

(a) Application forms. You can obtain copies of the following application forms from the Commission:

If you are an applicant for . . . | Then you must submit . . .
(1) NHPRC publication and records grants | “Application for Federal Assistance” (Standard Form 424) and “Budget Form” (NA Form 17001; OMB Control Number 3095-0004);
(2) Subvention grants | NHPRC subvention grant application (OMB Control Number 3095-0021), “Application for Federal Assistance” (Standard Form 424) and “Budget Form” (NA Form 17001);
(3) Archival or historical documentary editing fellowship host institutions | NHPRC “Application for Host Institutions of Archival Administration or Historical Documentary Editing Fellowships” (OMB Control Number 3095-0015)
(4) NHPRC-sponsored fellowships | “Application for Archival Administration or Historical Documentary Editing Fellowships” (OMB Control Number 3095-0014);
(5) NHPRC-sponsored editing institute | “Application for Attendance at the Institute for the Editing of Historical Documents” (OMB Control Number 3095-0012).

(b) Assurances and certifications. You must submit the following assurances and certifications, signed by an authorized representative of your institution, or if you are an individual applicant, by you:

(1) “Assurances—Non-Construction Programs” (Standard Form 424B).

(2) “Certification Regarding Lobbying; Debarment, Suspension and Other Responsibility Matters; and Drug-free Workplace Requirements.”

(c) Project summary. You must submit a project summary. A description of the project summary is found in the booklet Grant Guidelines: How to Apply for NHPRC Grants, How to Administer NHPRC Grants that is available from the NHPRC and from State historical records coordinators.

(d) List of performance objectives. You must list in the proposal from four to seven quantifiable objectives by which the project can be evaluated following the submission of the final report and the closing of the grant. NHPRC evaluates the project to determine whether it produces the results promised in grant applications.

(e) Submission requirements. Send the original, signed copy of your application to the NHPRC, National Archives and Records Administration, 700 Pennsylvania Avenue, NW., Washington, DC 20408-0001. Your properly completed application and any materials you send with it (such as pamphlets and photographic prints) will not be returned to you. Additional copies must be sent as follows:

If you are applying for . . . | Then you must send . . .
(1) A documentary editing project that has previously been supported by the Commission | Two additional copies to the NHPRC;
(2) A subvention grant | Two additional copies to the NHPRC;
(3) A new documentary editing project | Two additional copies to the NHPRC;
(4) A records grant and you are a Native American applicant | Two additional copies to the NHPRC;
(5) A records that is being done in a state where there is a State historical records advisory board | One additional copy to the NHPRC and one copy to the State historical records coordinator. In order to help facilitate the review process, however, it is recommended a state where that applicants send a copy for each member of the state board;
(6) A records grant whose work will take place in more than one State | Two additional copies to the NHPRC.

§ 1206.52 Who reviews and evaluates grant proposals?

(a) State boards. State historical records advisory boards evaluate records proposals on technical merits as well as on their relation to State-plan priorities. The board can return proposals it finds inappropriate or incomplete, with recommendations for revision, on which we will not act unless the applicant submits a revision for consideration in a later cycle. The Board may also recommend that the Commission reject the proposal.

(b) Peer reviewers. The NHPRC asks from five to ten external peer reviewers, some of whom may be selected from a list provided by you, to evaluate the proposal if the proposal:

(1) Requests NHPRC funds of $75,000 or more;

(2) Requests a grant period of two years or more;

(3) Involves complex technological processes and issues with which the NHPRC staff may be unfamiliar;

(4) Is a resubmission that the NHPRC invited; or

(5) Is not reviewed by a State historical records advisory board.

(c) Other reviewers. We may subject on-going documentary editions to special review by NHPRC staff and outside specialists, particularly when:

(1) You propose to change the project director/editor;

(2) Your sponsoring institution encounters difficulties or you propose a change in that institution;

(3) Your major search for materials has been completed;

(4) Your project finishes publication in one medium and plans to begin publication in another; or

(5) You change your project's estimate of quantity of publications and/or time needed to complete the project.

(d) NHPRC staff. NHPRC staff will analyze the reviewer's comments, State board evaluations, the appropriateness of the project toward Commission goals, the proposal's completeness and conformity to application requirements. The staff will, through a questions letter to you, raise important issues or concerns and allow you the opportunity to respond. The staff will then make recommendations to the Commission.

(e) The Commission. After individually reviewing the proposal and recommendations on it from State boards, peer reviewers, and NHPRC staff, Commission members will deliberate on all eligible proposals and recommend to the Archivist of the United States what action to take on each (fund, partially fund, endorse, reject, resubmit, etc.). By statute the Archivist chairs the Commission and has final authority to make or deny a grant.

§ 1206.54 What formal notification will I receive, and will it contain other information?

(a) The grant award document is a letter from the Archivist of the United States to you, the grantee. The letter and attachments specify terms of the grant. NHPRC staff notifies project directors informally of awards and any conditions soon after the Commission recommends the grant to the Archivist of the United States. Unsuccessful applicants will be notified within two weeks by letter.

(b) The grant period begins and ends on the dates specified in the award document. Grant periods must begin on the first day of a month and end on the last day of a month.

Subpart F—Grant Administration

§ 1206.60 Who is responsible for administration of NHPRC grants?

The grantee institution and the project director designated by the institution share primary responsibility for the administration of grants. In the case of grants made to individuals, the individual named as project director has primary responsibility for the administration of the grant.

§ 1206.62 Where can I find the regulatory requirements that apply to NHPRC grants?

(a) In addition to this part 1206, NARA has issued other regulations that apply to NHPRC grants in 36 CFR ch. XII, subchapter A. NARA also applies the principles and standards in the following Office of Management and Budget (OMB) Circulars for NHPRC grants:

(1) OMB Circular A-21, “Cost Principles for Educational Institutions”;

(2) OMB Circular A-87, “Cost Principles for State, Local and Indian Tribal Governments”;

(3) OMB Circular A-122, “Cost Principles for Non-Profit Organizations”; and

(4) OMB Circular A-133, “Audits of States, Local Governments, and Non-Profit Organizations.”

(b) These regulations and circulars are available on our web site at www.nara.gov/nhprc. Our regulations may also be found at http://www.nara.gov/nara/cfr/subch-a.html, and OMB Circulars at http://www.whitehouse.gov/omb/grants/.

(c) Additional policy guidance related to Title VI of the Civil Rights Act of 1964, regarding persons with limited English proficiency, is provided in our guidelines.

§ 1206.64 When do I need prior written approval for changes to the grant project?

You must obtain prior written approval from the Commission for any changes in the grant project and terms of the grant, including:

(a) Revising the scope or objectives of the project;

(b) Changing the project director or other key project personnel who are specifically named in the grant application or award or related correspondence;

(c) Contracting out, sub-granting, or otherwise obtaining the services of a third party to perform activities central to the purposes of the grant, unless specified in the grant proposal;

(d) Changing the beginning date of the grant or extending the grant period;

(e) Re-budgeting of grants of $100,000 or more, when cumulative transfers among direct cost categories total more than 10 percent of the total project budget (i.e., grant funds plus other funds). With written approval from the Executive Director of the Commission, grantees may adjust the amounts allocated to existing budget lines for both grant funds and cost sharing and may transfer grant funds among existing NHPRC-funded direct cost categories that appear in the final project budget approved by the Commission at the time of the grant award. Cost-sharing funds may also be shifted among existing cost-sharing categories; and

(f) Creating the following new cost categories:

You must obtain approval from . . . | When your new cost category was not in the final approved budget where . . .
(1) The Executive Director of the Commission or the Executive Director's designee | (i) such action seems appropriate for the fulfillment of the original purposes of the grant; and
| (ii) the amount of funds involved does not exceed 10 percent of the amount of the award, or $5,000, whichever is less.
(2) The full Commission | The amount of funds involved exceeds the amount in paragraph (f)(1)(ii) of this section.

§ 1206.66 How do I obtain written approval for changes in my grant project?

(a) You must make all requests for changes in the form of a letter. The grant-receiving institution's authorized representative, as indicated on the grant application form (SF 424), must sign the letter. The signed, written response of the Commission's Executive Director, or the Executive Director's designee, will constitute approval for the change.

(b) You must make requests for extension of the grant period not more than two months before the scheduled end of the grant period. We will not allow extensions unless you are up-to-date in your submission of financial and narrative reports.

§ 1206.68 Are there any changes for which I do not need approval?

You do not need approval for re-budgeting of grants of less than $100,000. For such grants:

(a) You may adjust the amounts allocated to existing budget lines for both grant funds and cost sharing;

(b) You may transfer grant funds among existing NHPRC-funded direct cost categories that appear in the final project budget approved by the Commission at the time of the grant award; and

(c) You may also shift cost-sharing funds among existing cost-sharing categories.

§ 1206.70 What reports am I required to make?

(a) Grant recipients are generally required to submit annual financial status reports and semi-annual narrative progress reports, as well as final financial and narrative reports at the conclusion of the grant period. The grant award document will specify the dates your reports are due.

(b) Send the original reports to the NHPRC, National Archives and Records Administration, 700 Pennsylvania Avenue NW., Washington, DC 20408-0001. One copy of each records project narrative report must be sent to the State historical records coordinator if the board reviewed the proposal. Other records projects should send courtesy copies of narrative reports to State coordinators whose States are involved in or affected by the project. Provide the names of individuals to whom copies of the report have been sent when submitting the original report to the NHPRC.

§ 1206.72 What is the format and content of the financial report?

You must submit financial reports on Standard Form 269 and have them signed by the grantee's authorized representative or by an appropriate institutional fiscal officer. If cost sharing figures are 20 percent less than anticipated in the project budget you must explain the reason for the difference.

§ 1206. 74 What is the format and content of the narrative report?

(a) Interim narrative reports should summarize briefly the objectives and activities for the entire grant and then focus on those accomplished during the reporting period. The report should include a summary of project activities; whether the project proceeded on schedule; any revisions of the work plan, staffing pattern, or budget; and any web address created by the project. It should include an analysis of the goals met during the reporting period and any goals for the period that were not accomplished. For documentary editing projects, it also must include information about the publication of volumes and the completion of finding aids, as well as any work that is pending with publishers.

(b) The final report must provide a detailed assessment of the project, following the format in paragraph (a) of this section, including whether the goals set in the original proposal were realistic; whether there were unpredicted results or outcomes; whether the project encountered unexpected problems and how you faced them; and how you could have improved the project. You must discuss the project's impact, if any, on the grant-receiving institution and others. You must indicate whether all or part of the project activities will be continued after the end of the grant, whether any of these activities will be supported by institutional funds or by grant funds, and if the NHPRC grant was instrumental in obtaining these funds.

(c) The project director must sign narrative reports.

§ 1206.76 What additional materials must I submit with the final narrative report?

(a) For records-related projects, you are required to send the NHPRC three copies of any finding aids, reports, manuals, guides, forms, articles about the project, and other materials produced about or based on the grant project at the time that the final narrative report is submitted.

(b) Documentary editing projects must send the NHPRC three copies of any book edition unless support for their publication was provided by an NHPRC subvention grant. For those volumes, presses rather than projects are responsible for submitting the required number of volumes (see § 1206.18(d)). Projects with microform editions must send the NHPRC three copies of the microform guides and indexes produced by the project.

§ 1206.78 Does the NHPRC have any liability under a grant?

No, the National Archives and Records Administration (NARA) and the Commission cannot assume any liability for accidents, illnesses, or claims arising out of any work undertaken with the assistance of the grant.

§ 1206.80 Must I acknowledge NHPRC grant support?

Yes, grantee institutions, grant project directors, or grant staff personnel may publish results of any work supported by an NHPRC grant without review by the Commission; however, publications or other products resulting from the project must acknowledge the assistance of the NHPRC grant.

Dated: October 17, 2001.
John W. Carlin,
Archivist of the United States.

[FR Doc. 02-2758 Filed 1-29-02; 8:45 am]

BILLING CODE 7515-01-U